DEPARTMENT OF COMMERCE

National Oceanic and Atmospheric Administration

[RTID 0648-XA412]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 137th Scientific and Statistical Committee (SSC), Pelagic and International Standing Committee, Executive and Budget Standing Committee, and 183rd Council meetings to take actions on fishery management issues in the Western Pacific Region.

DATES: The meetings will be held between September 9 and 17, 2020. For specific times and agendas, see SUPPLEMENTARY INFORMATION.

ADDRESSES: The meetings will be held by web conference via WebEx. Instructions for connecting to the web conference and providing oral public comments will be posted on the Council website at www.wpcouncil.org. For assistance with the web conference connection, contact the Council office at (808) 522-8220.

The following venues will be the host sites for the Standing Committee and Council meetings: Cliff Pointe, 304 W. O'Brien Drive, Hagatna, Guam; Hyatt Regency Saipan, Royal Palm Ave., Micro Beach Rd., Saipan, Commonwealth of the Northern Mariana Islands (CNMI); and Department of Port Administration, Airport Conference Room, Pago Pago Int'l Airport, Tafuna Village, American Samoa.

FOR FURTHER INFORMATION CONTACT: Kitty M. Simonds, Executive Director, Western Pacific Fishery Management Council; phone: (808) 522-8220.

SUPPLEMENTARY INFORMATION: All times shown are in Hawaii Standard Time. The 137th SSC meeting will be held between 11 a.m. to 5 p.m. on September 9-10, 2020. The Pelagic and International Standing Committee will be held between 12 p.m. and 2 p.m. on September 14, 2020. The Executive and Budget Standing Committee meeting will be held between 3 p.m. and 5 p.m. on September 14, 2020. The 183rd Council meeting will be held between 11 a.m. and 5 p.m. on September 15 to 17, 2020.

Please note that the evolving public health situation regarding COVID-19 may affect the conduct of the September Council and its associated meetings. At the time this notice was submitted for publication, the Council anticipated convening the Standing Committee and Council meetings by web conference with host site locations in Guam, CNMI and American Samoa. Council staff will monitor COVID-19 developments and will determine the extent to which in-person public participation at host sites will be allowable consistent with applicable local and federal safety and health guidelines. If public participation will be limited to web conference only or on a first-come-first-serve basis consistent with applicable guidelines, the Council will post notice on its website at www.wpcouncil.org.

Agenda items noted as “Final Action” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 183rd Council meeting will be available at www.wpcouncil.org. Written public comments on final action items at the 183rd Council meeting should be received at the Council office by 5 p.m. HST, September 11, 2020, and should be sent to Kitty M. Simonds, Executive Director; Western Pacific Fishery Management Council, 1164 Bishop Street, Suite 1400, Honolulu, HI 96813, phone: (808) 522-8220 or fax: (808) 522-8226; or email: info.wpcouncil@noaa.gov. Written public comments on all other agenda items may be submitted for the record by email throughout the duration of the meeting. Instructions for providing oral public comments during the meeting will be posted on the Council website. This meeting will be recorded for the purposes of generating the minutes of the meeting.

Agenda for the 137th Scientific and Statistical Committee Meeting

Wednesday, September 9, 2020, 11 a.m. to 5 p.m.

1. Introductions

2. Approval of Draft Agenda and Assignment of Rapporteurs

3. Status of the 136th SSC Meeting Recommendations

4. Report from Pacific Islands Fisheries Science Center Director

5. Program Planning and Research

A. Interagency U.S. Seafood Trade Task Force

B. Report on the Council Response to President Trump's Executive Order 13921 and 13924

C. Development of a Council Policy on Offshore Energy

D. Public Comment

E. SSC Discussion and Recommendations

6. Island Fisheries

A. Main Hawaiian Island (MHI) Aprion virescens (uku) Fishery

1. Report on the Risk of Overfishing (P*) and Social, Ecological, Ecosystem, Management Uncertainty (SEEM) Analysis

2. Setting Acceptable Biological Catch (ABC) for fishing year 2022-25 (Action Item)

B. Options for Hawaii Small-Boat Fishery Permitting and Reporting (Action Item)

C. Public Comment

D. SSC Discussion and Recommendations

7. Protected Species

A. Tori Line Demonstrations and Field Trials in the Hawaii Longline Fishery

B. Endangered Species Act (ESA) and Marine Mammal Protection Act (MMPA) Updates

1. Status of ESA Consultations

2. Other updates

C. Reasonable and Prudent Measures (RPMs) and/or Reasonable and Prudent Alternatives (RPAs) for the Hawaii and American Samoa Longline Fisheries (Action Item)

D. Public Comment

E. SSC Discussion and Recommendations

Thursday, September 10, 2020, 11 a.m. to 5 p.m.

8. Pelagic Fisheries

A. American Samoa Longline Fishery Report

B. Hawaii Longline Report Fishery Report

C. Oceanic Whitetip (OWT) Shark Population Projections

D. OWT Working Group Report and Research Activities

E. Roadmap to Effective Area-Based Management of Blue Water Fisheries

F. Report on the Hawaii Longline Eddy Project

G. Bigeye Tuna Recruitment Project

H. International Fisheries

1. North Pacific (NP) Striped Marlin Rebuilding Measures

2. Western Central Pacific Fisheries Commission (WCPFC)

a. 19th International Scientific Committee (ISC) Plenary Outcomes

b. 16th WCPFC Science Committee

3. Tropical Tuna Allocation Concept Paper

I. Workshop on the Use of C-14 for Tropical Tunas Age Validation

J. Public Comment

K. SSC Discussion and Recommendations

9. Other Business

A. December 2020 SSC Meetings Dates

10. Summary of SSC Recommendations to the Council

Agenda for the Pelagic and International Standing Committee

Monday, September 14, 2020, 12 p.m. to 2 p.m.

1. Mandatory Electronic Reporting in Longline Fisheries (Action Item)

2. OWT Population Projections

3. OWT Working Group and Research Activities

4. RPMs and/or RPAs for the Deep-set and American Samoa Longline Fisheries (Action Item)

5. Roadmap to Effective Area-Based Management of Blue Water Fisheries

6. International Fisheries

A. NP Striped Marlin Rebuilding Measures

B. WCPFC

a. 19th ISC Plenary Outcomes

b. 16th WCPFC Science Committee

c. WCPFC Technical and Compliance Committee

d. WCPFC Permanent Advisory Committee

e. WCPFC Northern Committee

C. Tropical Tuna Allocation Concept Paper

7. Advisory Group Report and Recommendations

A. Advisory Panel Report

B. Scientific & Statistical Committee Report

8. Other Issues

9. Public Comment

10. Discussion and Recommendations

Agenda for the Executive and Budget Standing Committee

Monday, September 14, 2020, 3 p.m. to 5 p.m.

1. Financial Reports

A. Current Grants

2. Administrative Reports

3. Council Coordination Committee Meetings

4. Council Family Changes

A. Non-Commercial Fishery Advisory Committee (NCFAC) Terms of Reference and Membership

B. Fishing Industry Advisory Committee (FIAC) Terms of Reference and Membership

5. Meetings and Workshops

6. Letters to the Administration

7. Other Issues

8. Public Comment

9. Discussion and Recommendations

Agenda for the 183rd Council Meeting

Tuesday, September 15, 2020, 11 a.m. to 5 p.m.

1. Welcome and Introductions

2. Oath of Office

3. Approval of the 183rd Agenda

4. Approval of the 182nd Meeting Minutes

5. Executive Director's Report

6. Agency Reports

A. NMFS

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

7. Mariana Archipelago

A. Guam

1. Isla Informe

2. Department of Agriculture/Division of Aquatic and Wildlife Resources Report

3. CARES Act distribution of funds

4. Guam Community Activities

B. CNMI

1. Arongol Falú

2. Department of Land and Natural Resource (DLNR)/Division of Fish and Wildlife Report

3. CARES Act distribution of funds

4. CNMI Community Activities

C. Advisory Group Reports and Recommendations

1. Advisory Panel Report

2. Scientific & Statistical Committee Report

D. Public Comment

E. Council Discussion and Action

8. Program Planning and Research

A. National Legislative Report

B. Draft Offshore Energy Policy

C. Standardized Bycatch Reporting Methodology

D. Update on Draft Aquaculture Programmatic Environmental Impact Statement

E. Electronic Technologies Implementation Plan

F. Report on the Council Response to President Trump's Executive Order 13921 and 13924

G. Interagency US Seafood Trade Taskforce

H. Modifications to the PRIA Objectives and Projects in the Pacific Remote Island Areas (PRIA) Marine Conservation Plan

I. Advisory Group Report and Recommendations

1. Advisory Panel Report

2. Scientific & Statistical Committee Report

J. Public Comment

K. Council Discussion and Action

Wednesday, September 16, 2020, 4:30 p.m. to 5 p.m.

Public Comment on Non-Agenda Items

Wednesday, September 16, 2020, 11 a.m. to 5 p.m.

9. American Samoa Archipelago

A. Motu Lipoti

B. Department of Marine and Wildlife Resources Report

C. CARES Act distribution of funds

D. American Samoa Community Activities

E. Advisory Group Report and Recommendations

1. Advisory Panel Report

2. Scientific & Statistical Committee Report

F. Public Comment

G. Council Discussion and Action

10. Hawai`i Archipelago & PRIA

A. Moku Pepa

B. DLNR/Division of Aquatic Resources Report

C. Options for Mandatory Permitting and Reporting for Hawaii's Small-boat Fishery (Initial Action)

D. MHI Uku Fishery

1. P* and SEEM Working Group Report

2. Specifying Annual Catch Limits for MHI Uku (Final Action)

E. CARES Act funding distribution

F. Hawaii Community Activities

G. Advisory Group Report and Recommendations

1. Advisory Panel Report

2. Scientific & Statistical Committee Report

H. Public Comment

I. Council Discussion and Action

11. Protected Species

A. ESA and MMPA Updates

1. Status of ESA Consultations

2. Other ESA and MMPA Updates

B. Tori Line Demonstrations and Field Trials in the Hawaii Longline Fishery

C. Advisory Group Report and Recommendations

1. Advisory Panel Report

2. Scientific & Statistical Committee Report

D. Public Comment

E. Council Discussion and Action

Thursday, September 17, 2020, 11 a.m.-5 p.m.

12. Pelagic & International Fisheries

A. Hawaii Longline Fishery Report

B. American Samoa Longline Fishery Report

C. Mandatory Electronic Reporting in Longline Fisheries (Final Action)

D. OWT Population Projections

E. OWT Working Group and Research Activities

F. RPMs and/or RPAs for the Deep-set and American Samoa Longline Fisheries (Initial Action)

G. Roadmap to Effective Area-Based Management of Blue Water Fisheries

H. International Fisheries

1. Update on NP Striped Marlin Rebuilding Measures

2. WCPFC

a. 19th ISC Plenary Outcomes

b. 16th WCPFC Science Committee

c. WCPFC Technical and Compliance Committee

d. WCPFC Permanent Advisory Committee

e. WCPFC Northern Committee

3. Tropical Tuna Allocation Concept Paper

4. International Fisheries Meeting MMPA Equivalencies and Other Relevant International Issues

I. Advisory Group Report and Recommendations

1. Advisory Panel Report

2. Scientific & Statistical Committee Report

J. Standing Committee Report and Recommendations

K. Public Comment

L. Council Discussion and Action

13. Administrative Matters

A. Financial Reports

1. Current Grants

B. Administrative Reports

C. Council Coordination Committee Meetings

D. Council Family Changes

1. NCFAC Terms of Reference and Membership

2. FIAC Terms of Reference and Membership

E. Meetings and Workshops

F. Letters to the Administration

G. Standing Committee Report and Recommendations

H. Public Comment

I. Council Discussion and Action

14. Other Business

Non-emergency issues not contained in this agenda may come before the Council for discussion and formal Council action during its 183rd meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least five days prior to the meeting date.

Authority: 16 U.S.C. 1801 et seq.

Dated: August 18, 2020.
Tracey L. Thompson,
Acting Deputy Director, Office of Sustainable Fisheries, National Marine Fisheries Service.

[FR Doc. 2020-18486 Filed 8-21-20; 8:45 am]

BILLING CODE 3510-22-P